DEPARTMENT OF AGRICULTURE

Forest Service

Information Collection; Request for Comments; Small Business Timber Sale Set-Aside Program; Appeal Procedures on Recomputation of Shares

AGENCY: Forest Service, USDA.

ACTION: Notice.

SUMMARY: In accordance with the Paperwork Reduction Act of 1995, the Forest Service announces its intention to extend, with no revision, an information collection. The collected information will help the Forest Service fairly consider administrative appeals from timber companies appealing small business timber sale set-aside recomputations.

DATES: Comments must be received in writing on or before May 20, 2005, to be assured of consideration. Comments received after that date will be considered to the extent practicable.

ADDRESSES: Comments concerning this notice should be addressed to Rod Sallee, Forest Management Staff, Forest Service, USDA, Mail Stop 1103, 1400 Independence Avenue, SW., Washington, DC 20250.

Comments also may be submitted via facsimile to (202) 205-1045 or by e-mail to rsallee@fs.fed.us.

The public may inspect comments received at the Forest Management Staff Office, Room 3SW, Yates Building, Forest Service, USDA, 1400 Independence Avenue, SW., Washington, DC. Visitors should call ahead to (202) 205-1766 to facilitate entrance into the building.

FOR FURTHER INFORMATION CONTACT: Rod Sallee, Forest Management Staff, at (202) 205-1766. Individuals who use telecommunication devices for the deaf (TDD) may call the Federal Relay Service (FRS) at 1-800-877-8339 twenty-four hours a day, every day of the year, including holidays.

SUPPLEMENTARY INFORMATION:

Background

The Forest Service adopted the Small Business Timber Sale Set-Aside Program on July 26, 1990 (55 FR 30485). The agency administers the program in cooperation with the Small Business Administration (SBA) under the authorities of The Small Business Act 1988, the National Forest Management Act of 1976, and SBA's regulations at Part 121 of Title 13 of the Code of Federal Regulations. The program is designed to ensure that small business timber purchasers have the opportunity to purchase a fair proportion of National Forest System timber offered for sale.

Under the program, the Forest Service must recompute the shares of timber sales to be set aside for qualifying small businesses every 5 years on the actual volume of sawtimber that has been purchased by small business. Also, shares must be recomputed if there is a change in manufacturing capability, if the purchaser size class changes, or if certain purchasers discontinue operations. Direction to guide administration of the Set-Aside Program is issued in Chapter 2430 of the Forest Service Manual and Chapter 90 of the Forest Service Timber Sale Preparation Handbook.

In 1992, the agency adopted new administrative appeal procedures at Part 215 of Title 36 of the Code of Federal Regulations in response to new statutory direction. These rules apply to certain National Forest System project-level decisions for which an environmental assessment (EA) or environmental impact statement (EIS) has been prepared. Because the recomputation of shares under the Small Business Timber Sale Set-Aside Program is not subject to documentation in an EA or EIS, the decisions on the 1996-2000 Forest Service recomputation of small business shares were not subject to the new appeal procedures. These decisions also were not appealable as conditions of special-use authorizations under Part 251, Subpart C, of Title 36 of the Code of Federal Regulations.

However, since the agency had accepted appeals of recomputation decisions under Part 217 of Title 36 of the Code of Federal Regulations prior to adoption of Part 215, the agency decided to establish procedures for providing notice to affected purchasers with opportunity to comment on the recomputation of shares. Notice of these procedures was published in the Federal Register on February 28, 1996 (61 FR 7468).

The Conference Report accompanying the 1997 Omnibus Appropriation Act found the Forest Service decision to eliminate an administrative appeals opportunity for the Small Business Timber Sale Set-Aside Program “unacceptable” and directed the Forest Service to reinstate an appeals process before December 31, 1996.

The Conference Report required the agency to establish a process by which purchasers may appeal decisions concerning recomputations of Small Business Set-Aside (SBA) shares, structural recomputations of SBA shares, or changes in policies impacting the Small Business Timber Sale Set-Aside Program.

The Forest Service published an interim rule in the Federal Register on March 24, 1997, (62 FR 13826) to comply with the Conference Report appeal requirement. The agency published a final rule, Small Business Timber Sale Set-Aside Program; Appeal Procedures on Recomputation of Shares (36 CFR 223), in the Federal Register on January 5, 1999 (64 FR 406). This final rule clarified the kinds of decisions that are subject to appeal, who may appeal decisions, the procedures for appealing decisions, the timelines for appeal, and the contents of the notice of appeal.

The following describes the information collection to be retained:

Title: Small Business Timber Sale Set-Aside Program; Appeal Procedures on Recomputation of Shares.

OMB Number: 0596-0141.

Expiration Date of Approval: May 31, 2005.

Type of Request: Extension with no revision.

Abstract: The Appeal Deciding Officer, who is the official one level above the level of the Responsible Official who made the recomputation of shares decision, will evaluate the data provided in the notice of appeal to resolve appeals of recomputations of small business shares of the timber sale program.

The Responsible Official provides qualifying timber sale purchasers 30 days for predecisional review and comment on any draft decision to reallocate shares, including the data used in making the proposed recomputation decision. Within 15 days of the close of the 30-day predecisional review period, the Responsible Official makes a decision on the shares to be set aside for small businesses and gives written notice of the decision to all parties on the national forest timber sale bidders list for the affected area. The written notice provides the date by which the appeal may be filed and how to obtain appeal procedures information.

Only timber sale purchasers, or their representatives, who are affected by recomputation decision of the small business share of timber sale set-aside and who have submitted predecisional comments may appeal recomputation decisions.

The appellant must file a notice of appeal with the Appeal Deciding Officer within 20 days of the date of the notice of decision. The notice of appeal must include the appellant's name, mailing address, and daytime phone number; the title and date of the decision and the name of the responsible official; a brief description and date for the decision being appealed; a statement of how the appellant is adversely affected by the decision being appealed; and a statement of the facts in dispute regarding the issue(s) raised by the appeal; specific references to law, regulation, or policy that the appellant believes to have been violated, if any, and the basis for such an allegation; a statement as to whether and how the appellant has tried to resolve with the Responsible Official the issue(s) being appealed, including evidence of submission of written comments at the predecisional stage; and a statement of the relief the appellant seeks.

Data gathered in this information collection are not available from other sources.

Estimate of Annual Burden: 4 hours.

Type of Respondents: Timber sale purchasers, or their representatives, who are affected by recomputations of the small business share of timber sales.

Estimated Annual Number of Respondents: 40.

Estimated Annual Number of Responses per Respondent: 2.

Estimated Total Annual Burden on Respondents: 320 hours.

Comment is invited on: (a) Whether the proposed collection of information is necessary for the stated purposes and the proper performance of the functions of the agency, including whether the information will have practical or scientific utility; (b) the accuracy of the agency's estimate of the burden of the proposed collection of information, including the validity of the methodology and assumptions used; (c) ways to enhance the quality, utility, and clarity of the information to be collected; and (d) ways to minimize the burden of the collection of information on respondents, including the use of automated, electronic, mechanical, or other technological collection techniques or other forms of information technology.

Use of Comments

All comments received in response to this notice, including names and addresses when provided, will become a matter of public record. Comments will be summarized and included in the request for Office of Management and Budget approval.

Dated: March 11, 2005.
Frederick Norbury,
Associate Deputy Chief, National Forest System.

[FR Doc. 05-5458 Filed 3-18-05; 8:45 am]

BILLING CODE 3410-11-P